FEDERAL ELECTION COMMISSION

11 CFR Parts 104 and 9036

[Notice 2024-04]

Technological Modernization; Correction

AGENCY: Federal Election Commission.

ACTION: Final rule; correction.

SUMMARY: The Federal Election Commission is correcting two amendatory instructions that appeared in a final rule published in the Federal Register on January 2, 2024. The final rule revised certain Commission regulations in light of technological advances in communications, recordkeeping, and financial transactions, and eliminated and updated regulatory references to outdated technologies.

DATES: Effective March 1, 2024.

FOR FURTHER INFORMATION CONTACT: Ms. Amy Rothstein, Assistant General Counsel, or Ms. Joanna S. Waldstreicher or Mr. Tony Buckley, Attorneys, 1050 First Street NE, Washington, DC 20463, (202) 694-1650 or (800) 424-9530.

SUPPLEMENTARY INFORMATION: In FR Doc. 2023-27908 appearing on page 196 in the Federal Register of Tuesday, January 2, 2024, the following corrections are made:

§ 104.3 [Corrected]

1. On page 216, in the first column, correct instruction 42 to read “Amend § 104.3(e)(5) by removing the phrase “at the street address identified in the definition of “Commission” in § 1.2 of this chapter,”.”

§ 9036.1 [Corrected]

2. On page 221, in the second column, correct instruction 131.e., for § 9036.1, to read “In paragraph (b)(6), remove the words “full-sized photocopy” and add in their place the words “record that contains a complete image”; and”.

Dated: January 24, 2024.
On behalf of the Commission.
Sean J. Cooksey,
Chairman, Federal Election Commission.

[FR Doc. 2024-01676 Filed 1-26-24; 8:45 am]

BILLING CODE 6715-01-P